DEPARTMENT OF COMMERCE

National Telecommunications and Information Administration

Public Telecommunications Facilities Program Application Form

ACTION: Proposed collection; comments requested.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A).

DATES: Written comments must be submitted on or before July 14, 2000.

ADDRESSES: Direct all written comments to Linda Engelmeier, Departmental Forms Clearance Officer, Department of Commerce, Room 5027, 14th and Constitution Avenue, NW, Washington, DC 20230 (or via the Internet lengelme@doc.gov).

FOR FURTHER INFORMATION CONTACT: Requests for additional information or copies of the information collection instrument(s) and instructions should be directed to Clifton Beck, NTIA, Room H-4888, U.S. Department of Commerce, 14th and Constitution Avenue, NW, Washington, DC 20230.

SUPPLEMENTARY INFORMATION:

I. Abstract

The purpose of the Public Telecommunications Facilities Program is to assist, through matching funds, in the planning and construction of public telecommunications facilities in order to achieve the following objectives:

• Extend delivery of public telecommunications services to as many citizens in the United States as possible by the most efficient and economical means, including the use of broadcast and nonbroadcast technologies;

• Increase public telecommunications services and facilities available to, operated by, and owned by minorities and women; and

• Strengthen the capability of existing public radio and television stations to provide public telecommunications services to the public.

II. Method of Collection

The information collection instrument to be used is in written form.

• Application form distributed to all potential applicants who have notified PTFP that they wish to be placed on the mailing list for applications.

III. Data

OMB Number: 0660-0003.

Form Number: None.

Type of Review: Regular submission.

Affected Public: Public Telecommunications Facilities Program applicants (who may be non-profit corporations, public and private universities and colleges, state and local government agencies).

Burden Hours Calculations/Reporting

Requirement | Hours/applicant | No. of applicants | Burden hours
Application for PTFP Funds | 86 | 450 | 38,700
Resubmission of applications | 9 | 179 | *1,550
Total | 40,250
* In every grant cycle, PTFP requires revised information to be submitted by applicants under serious consideration. We estimate this information requires 9 hours of work by about 170 of the 450 total applicants. (9×170 = 1,530). This number has been rounded to 1,550.

Estimated Total Annual Cost to the Public: Cost to respondents is consistent with their normal administrative overhead. Respondents will not have to purchase equipment or material to provide information.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; (d) ways to minimize the burden of the collection of information on respondents, including through the use of automated collection techniques or other forms of information technology.

Comments submitted in response to the notice will be summarized and/or included in the request for OMB approval of the information collection; they also will become a matter of public record.

Dated: May 9, 2000.
Madeleine Clayton,
Management Analyst, Office of the Chief Information Officer.

[FR Doc. 00-12092 Filed 5-12-00; 8:45 am]

BILLING CODE 3510-60-P